DEPARTMENT OF COMMERCE

Census Bureau

Proposed Information Collection; Comment Request; Survey of Income and Program Participation (SIPP)

AGENCY: U.S. Census Bureau, Commerce.

ACTION: Notice.

SUMMARY: The Department of Commerce, as part of its continuing effort to reduce paperwork and respondent burden, invites the general public and other Federal agencies to take this opportunity to comment on a proposed revision of the Survey of Income and Program Participation (SIPP), as required by the Paperwork Reduction Act of 1995.

DATES: To ensure consideration, written comments must be submitted on or before July 20, 2020.

ADDRESSES: Direct all written comments to Hyon B. Shin, U.S. Census Bureau, SEHSD, 4600 Silver Hill Road, Office 7H596, Washington, DC 20233-8500 (or via the internet at PRAcomments@doc.gov). You may also submit comments, identified by Docket Number USBC-2020-0010, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Hyon B. Shin, U.S. Census Bureau, SEHSD, 4600 Silver Hill Road, Office 7H596, Washington, DC 20233-8500 (or via the internet at census.sipp@census.gov).

SUPPLEMENTARY INFORMATION:

I. Abstract

The Census Bureau plans to request clearance from the Office of Management and Budget (OMB) for the collection of data concerning the Survey of Income and Program Participation (SIPP). The SIPP is a household-based survey designed as a continuous series of national panels.

The SIPP represents the primary source of information about annual and sub-annual dynamics of income, family and household content, movement into and out of government programs, and interactions of these topics in a single, unified dataset allowing for in-depth, informed analyses. Government domestic policy formulators and evaluators depend heavily upon the information collected in the SIPP in their analyses of the distribution of income received either directly as money or indirectly as in-kind benefits and the effect of tax and transfer programs on that distribution. They also rely on the SIPP data to provide improved and expanded information on the dynamics of income and the general economic and financial situation of the U.S. population, in the context of the household situation, which the SIPP has provided on a continuing basis since 1983. The SIPP has measured levels of economic well-being and permitted measurement of sub-annual and annual changes in these levels over time.

The SIPP is a household-based survey designed as a continuous series of national panels. Each panel features a nationally representative sample of addresses whose household members are interviewed over a multi-year period lasting approximately four years. Starting with the 2019 survey year, the Census Bureau introduced a sample design scenario of overlapping panels where new representative addresses are sampled and added to the workload each year. This means that there will be a new household sample introduced each year whose occupants will be re-interviewed over the subsequent three years, creating the overlapping sample design.

The 2021 SIPP Panel Wave 1 cases will be interviewed about the previous calendar year, 2020, as the reference period, and will proceed with annual interviewing going forward. Calendar year 2021 SIPP will also have returning Wave 4 cases from sample year 2018 and Wave 2 cases from sample year 2020, each being interviewed about their experience during calendar year 2020. There will be no Wave 3 cases from sample year 2019 due to collection issues stemming from the lapse in Department of Commerce funding in early 2019. Those issues resulted in too few 2019 sample cases being collected in 2019, and those households were then dropped and not included in 2020 data collection activities.

The overlapping panel model will provide approximately 33,600 interviewed housing units every year to give the best design for both cross-sectional and longitudinal estimates. We will continue to provide monthly and longitudinal weights where monthly weights will incorporate all the panels in the field at that time and longitudinal weights will depend on individual panels. We estimate that each household contains 2.1 people age 15 and above, yielding approximately 70,560 person-level interviews per calendar year. Completing the SIPP interview will take approximately 60 minutes per adult on average, consequently the total annual burden for 2021 SIPP interviews will be 70,560 hours.

The 2021 SIPP will continue to use the same interviewing method as previous SIPP Panels, in which adults (age 15 years and older) who move from the prior wave household will be followed. Consequently, future waves will incorporate data collected from the prior wave interview brought forward to the current interview as a way to reduce respondent burden and improve data quality.

The Census Bureau also plans to continue to use Computer Audio-Recorded Interview (CARI) technology as part of the SIPP interviewing process. CARI is a tool used during data collection to capture audio along with response data. After an introduction that notifies respondents that the interview may be recorded for quality assurance, a portion of each interview is recorded unobtrusively and both the sound file and screen images are returned with the response data to Census Headquarters for evaluation. Census staff may review the recorded portions of the interview to improve questionnaire design and for quality assurance purposes.

The SIPP questionnaire uses an Event History Calendar (EHC) that facilitates the collection of dates of events and spells of coverage. The EHC is a tool to assist the respondent's ability to recall events accurately to the beginning of the reference period and provide increased data quality and inter-topic consistency for dates reported by respondents. The EHC is intended to help respondents recall information in a more natural “autobiographical” manner by using events from one topic as triggers to recall additional details and the timing in other topics.

II. Method of Collection

The SIPP uses Computer-Assisted Personal Interviewing (CAPI) method of data collection. The household interview collects one interview per person per year. Each interview will reference a period that begins with the beginning of the reference period and extends to the interview month of the current year. A field representative will conduct the interview in person with all household members 15 years old or over, using regular proxy-respondent rules. Children under 15 years old have information collected by proxy interviews with the household respondent. In the instances where the residence is not accessible or the respondent makes a request, the field representative will conduct the interview by telephone.

III. Data

OMB Control Number: 0607-1000.

Form Number: SIPP/CAPI Automated Instrument.

Type of Review: Regular submission.

Affected Public: Individuals or Households.

Estimated Number of Respondents: 70,560.

Estimated Time per Response: 63 minutes.

Estimated Total Annual Burden Hours: 74,088.

Estimated Total Annual Cost to Public: $0. There are no costs to the respondents other than their time.

Respondent's Obligation: Voluntary.

Legal Authority: Title 13, United States Code, Sections 141 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-10655 Filed 5-18-20; 8:45 am]

BILLING CODE 3511-07-P